DEPARTMENT OF TRANSPORTATION

Surface Transportation Board

[Ex Parte No. 333]

Sunshine Act Meeting

TIME AND DATE: 10 a..m., December 13, 2004.

PLACE: The Board's Hearing Room, Surface Transportation Board, 1925 K Street, NW., Washington, DC 20423.

STATUS: The Board will meet to discuss among themselves the following agenda items. Although the conference is open for public observation, no public participation is permitted.

MATTERS TO BE CONSIDERED: STB Docket No. AB-556 (Sub-No. 2X), Railroad Ventures, Inc.—Abandonment Exemption—Between Youngstown, OH, and Darlington, PA, in Mahoning and Columbiana Counties, OH, and Beaver County, PA.

Docket No. 41185, Arizona Public Service Company & PacifiCorp v. The Burlington Northern and Santa Fe Railway Company.

STB Docket No. 42057, Public Service Company of Colorado D/b/a Xcel Energy v. The Burlington Northern and Santa Fe Railway Company.

STB Docket No. 42071, Otter Tail Power Company v. The Burlington Northern and Santa Fe Railway Company.

STB Docket No. WCC-105, DHX Inc., v. Matson Navigation Company and Sea-Land Service, Inc.

STB Ex Parte No. 656, Motor Carrier Bureaus—Periodic Review Proceeding.

STB Ex Parte No. 558 (Sub-No. 8), Railroad Cost of Capital—2004.

FOR FURTHER INFORMATION CONTACT: A. Dennis Watson, Office of Congressional and Public Services, Telephone: (202) 565-1596; FIRS: 1-800-877-8339.

Dated: December 6, 2004.
Vernon A. Williams,
Secretary.

[FR Doc. 04-27140 Filed 12-7-04; 11:26 am]

BILLING CODE 4915-01-P